ENVIRONMENTAL PROTECTION AGENCY

[EPA-HQ-OLEM-2022-0933; FRL-10955-01-OLEM]

Recycling Infrastructure and Market Opportunities Map; Request for Public Comment

AGENCY: Environmental Protection Agency (EPA).

ACTION: Notice.

SUMMARY: The Environmental Protection Agency (EPA) has developed an interactive map of recycling markets that highlights existing recycling infrastructure, per capita generation and recycling of post-consumer materials, and other relevant market factors. The map visually presents data estimates across various phases of the recycling process, including generation, collection, sortation, and end use. Through this document, the Office of Land and Emergency Management (OLEM) is soliciting public comments on the accuracy and completeness of the data, ease of use, graphics, and recommendations on future updates of the map. EPA will collect and analyze the public comments to use as inputs for the next update of the map.

DATES: Comments must be received on or before June 26, 2023.

ADDRESSES: You may send comments, identified by Docket ID No. EPA-HQ-OLEM-2022-0933, using the following method:

• Federal eRulemaking Portal: https://www.regulations.gov/. Follow the online instructions for submitting comments.

Instructions: All submissions received must include the Docket ID No. for this rulemaking. Comments received may be posted without change to https://www.regulations.gov/, including any personal information provided. For detailed instructions on sending comments and additional information on the rulemaking process, see the “Public Participation” heading of the SUPPLEMENTARY INFORMATION section of this document.

FOR FURTHER INFORMATION CONTACT: Lawrence Doppelt, Office of Resource Conservation and Recovery, Office of Land and Emergency Management (Mail Code 5101T), Environmental Protection Agency, 1200 Pennsylvania Avenue NW, Washington, DC 20460; telephone number: (202) 566-0283; email address: doppelt.lawrence@epa.gov.

SUPPLEMENTARY INFORMATION:

I. Public Participation

Response to this request for public comment is voluntary. Submit your comments, identified by Docket ID No. EPA-HQ-OLEM-2022-0933, at https://www.regulations.gov/. Once submitted, comments cannot be edited or removed from the docket. The EPA may publish any comment received to its public docket. Responses to this request for public comment may be submitted by a single party or a team. Responses will only be accepted using Microsoft Word (.docx) or Adobe PDF (.pdf) file formats. The response document should contain the following:

• Two clearly delineated sections: (1) Cover page with company name and contact information; and (2) responses should indicate which topic and specific questions are being addressed.

• 1-inch margins (top, bottom, and sides).

• Times New Roman and 12-point font.

Comments containing references, studies, research, and other empirical data that are not widely published should include copies or electronic links of the referenced materials. Do not submit to EPA's docket at https://www.regulations.gov/ any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

Privacy note: All comments received from members of the public will be available for public viewing on Regulations.gov. In accordance with Federal Acquisition Regulation 15.202(3), responses to this document are not offers and cannot be accepted by the Federal Government to form a binding contract. Additionally, those submitting responses are solely responsible for all expenses associated with response preparation.

II. General Information

What is the purpose of this request for public comment?

EPA has developed an interactive map of recycling markets that highlights existing recycling infrastructure, per capita generation and recycling of post-consumer materials, and other relevant market factors. By providing a comprehensive resource for understanding opportunities related to post-consumer materials management, this map can help develop and strengthen primary and secondary markets for materials, support cleaner communities by reducing the amount of plastic and other waste entering landfills and the marine environment, and provide opportunities to address climate change by diverting more materials from landfills. The map visually presents data estimates across various phases of the recycling process, including generation, collection, sortation, and end use. This new resource supports implementation of the National Recycling Strategy (https://www.epa.gov/recyclingstrategy), the Save our Seas 2.0 Act, and the Solid Waste Infrastructure for Recycling (SWIFR) grant program funded by the Bipartisan Infrastructure Law, or BIL (https://www.epa.gov/infrastructure).

Using publicly available information, EPA populated the map with the locations of 15 different types of recycling and other municipal solid waste (MSW) infrastructure, such as material recovery facilities, anaerobic digesters, composting facilities, glass recycling facilities, MSW landfills, and transfer stations. Using publicly available data from the Ball Corporation, U.S. Census Bureau's American County Survey, EPA tools including the State Measurement Program and Wasted Food Report, and materials management reports from states and regions, the map also displays 16 types of recyclable material generated and recycled per U.S. zip code, including aluminum, cardboard, electronics, food waste, glass, paper, plastics #1-7, steel cans, tires, textiles, yard trimmings, and wood.

The map also includes specific, publicly available information about facilities in the recycling system, including facility names, addresses, counties, phone numbers, emails, websites, North American Industry Classification System (NAICS) codes, infrastructure types, and feedstocks for each facility, where available.

EPA is soliciting public comments on the accuracy and completeness of the data, ease of use, graphics, and recommendations on future updates of the map. EPA will analyze the public comments to use as inputs for the next update of the tool. The specific public comment questions are:

1. Accuracy and Completeness of the Data

• Do the data reflect recycling infrastructure, end markets and market factors in your location accurately?

• Are the recycled materials tonnage estimations consistent with your knowledge of your geographical area?

• Are there any missing facilities, end markets, or other layers within the scope of this map that EPA should add?

2. Ease of Use

• Does the structure of the map features, layers, and overlays make sense?

• Is the interface intuitive? How easy or difficult is it to navigate the various icons and features?

• Are the underlying datasets easy to access and download?

3. Graphics

• Is the map visually accessible, particularly with multiple icons and layers turned on?

• Do you have any recommendations on improving the visualization of the key features?

4. Future Updates

• What additional infrastructure, layers, or tools would you want to see in version 2.0 of this map?

If you have questions regarding this action, consult the person listed in the FOR FURTHER INFORMATION CONTACT section of this document.

Dated: May 5, 2023.
Carolyn Hoskinson,
Director, Office of Resource Conservation and Recovery.

[FR Doc. 2023-10152 Filed 5-11-23; 8:45 am]

BILLING CODE 6560-50-P